DEPARTMENT OF TRANSPORTATION

Federal Aviation Administration

Proposed Advisory Circular 43-6B, Altitude Reporting Equipment and Transponder System Maintenance and Inspection Practices

AGENCY: Federal Aviation Administration, DOT.

ACTION: Notice of availability of proposed AC and request for comments.

SUMMARY: This notice announces the availability of and requests comments on proposed advisory circular (AC) 43-6B, that provides information concerning acceptable methods of testing altimeters, static systems, altitude encoders, and Air Traffic Control (ATC) transponder systems. Like all advisory material, this AC is not in itself mandatory and does not constitute a regulation. It provides a means, but not the only means, of testing to be used at the time of original installation, after performing repairs, or during scheduled recertification. Altitude reporting equipment and transponder systems are significant elements for safe operation of aircraft in the National Airspace System. This notice is necessary to give all interested persons the opportunity to present their views on the proposed AC.

DATES: Comments must be received on or before January 15, 2002.

ADDRESSES: Send all comments on the proposed AC to: Federal Aviation Administration, Continuous Airworthiness Maintenance Division (Attention: AFS-330), 800 Independence Avenue, SW., Washington, DC 20591, or electronically to david.correia@faa.gov.

FOR FURTHER INFORMATION CONTACT: David Correia, AFS-330, at the address above, by e-mail at david.correia@faa.gov, or telephone at (202) 267-3812.

SUPPLEMENTARY INFORMATION:

Comments Invited

The proposed AC is available on the FAA Web site at http://www.faa.gov/avr/afs/acs/ac-idx.htm, under AC No. 43-6B. Interested persons are invited to comment on the proposed AC by submitting such written data, views, or arguments as they may desire. Please identify AC 43-6B, Altitude Reporting Equipment and Transponder System Maintenance and Inspection Practices, and submit comments, either hard copy or electronic, to the appropriate address listed above. Comments may be inspected at the above address between 9:00 a.m. and 4:00 p.m. weekdays, except Federal holidays.

Issued in Washington, DC, on October 19, 2001.
Louis C. Cusimano,
Acting Deputy Director, Flight Standards Service.

[FR Doc. 01-28679 Filed 11-15-01; 8:45 am]

BILLING CODE 4910-13-M